DEPARTMENT OF INTERIOR

Bureau of Land Management

Notice of Filing of Plats

[LLCO956000.L14200000 BJ0000]

AGENCY: Bureau of Land Management, Interior.

ACTION: Notice of filing of plats.

SUMMARY: The Bureau of Land Management (BLM) Colorado State Office is publishing this notice to inform the public of the intent to file the land survey plats listed below, and to afford all affected parties a proper period of time to protest this action, prior to the plat filing.

DATES: Unless there are protests of this action, the filing of the plats described in this notice will happen on December 3, 2010.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: The plat and field notes of the dependent resurveys and surveys in Townships 50 North, Ranges 8 and 9 West, New Mexico Principal Meridian, Colorado, were accepted on June 2, 2010.

The plat and field notes of the dependent resurvey in Township 9 South, Range 104 West, Sixth Principal Meridian, Colorado, were accepted on June 4, 2010.

The plat and field notes of the dependent resurvey in Township 10 South, Range 104 West, Sixth Principal Meridian, Colorado, were accepted on June 4, 2010.

The supplemental plat of Section 14 in Township 1 North, Range 72 West, Sixth Principal Meridian, Colorado, was accepted on June 10, 2010.

The plat and field notes of the dependent resurvey in Township 34 North, Range 10 West, New Mexico Principal Meridian, Colorado, were accepted on June 17, 2010.

The supplemental plat of Section 28 in Township 11 North, Range 72 West, Sixth Principal Meridian, Colorado, was accepted on June 21, 2010.

The plat and field notes of the dependent resurvey in Township 33 North, Range 12 West, New Mexico Principal Meridian, Colorado, were accepted on July 9, 2010.

The plat and field notes of the dependent resurvey in Township 32 North, Range 13 West, New Mexico Principal Meridian, Colorado, were accepted on July 9, 2010.

The plat and field notes of the dependent resurvey in Township 33 North, Range 13 West, New Mexico Principal Meridian, Colorado, were accepted on July 9, 2010.

The plat and field notes of the dependent resurvey in Township 34½ North, Range 9 West, New Mexico Principal Meridian, Colorado, were accepted on July 15, 2010.

The plat and field notes of the dependent resurvey in Township 47 North, Range 7 East, New Mexico Principal Meridian, Colorado, were accepted on July 22, 2010.

The plat and field notes of the dependent resurvey and survey of tracts in Township 43 North, Range 5 East, New Mexico Principal Meridian, Colorado, were accepted on July 23, 2010.

The plat and field notes of the dependent resurvey and surveys in Township 9 South, Range 93 West, Sixth Principal Meridian, Colorado, were accepted on August 5, 2010.

The plat and field notes of the dependent resurvey and surveys in Township 21 South, Range 69 West, Sixth Principal Meridian, Colorado, were accepted on August 11, 2010.

The plat and field notes of the dependent resurvey in Township 47 North, Range 3 West, New Mexico Principal Meridian, Colorado, were accepted on August 11, 2010.

The plat incorporating the field notes of the dependent resurvey in Township 43 North, Range 12 East, New Mexico Principal Meridian, Colorado, was accepted on August 16, 2010.

The plat incorporating the field notes of the dependent resurvey in Township 44 North, Range 12 East, New Mexico Principal Meridian, Colorado, was accepted on August 16, 2010.

The plat and field notes of the dependent resurvey and subdivision of Section 25 in Township 9 South, Range 77 West, Sixth Principal Meridian, Colorado, were accepted on September 30, 2010.

The plat and field notes, of the dependent resurvey and surveys, in Townships 6 North, Ranges 75 and 76 West, Sixth Principal Meridian, Colorado, were accepted on October 6, 2010.

The plat and field notes of the dependent resurvey and surveys in Township 5 North, Range 76 West, Sixth Principal Meridian, Colorado, were accepted on October 6, 2010.

If a protest of any of these projects is received prior to the date of the official filing, the official filing of that project will be stayed pending consideration of the merits of the protest.

Randy Bloom,
Chief Cadastral Surveyor for Colorado.

[FR Doc. 2010-27724 Filed 11-2-10; 8:45 am]

BILLING CODE 4310-JB-P